DEPARTMENT OF THE INTERIOR

U.S. Geological Survey

Agency Information Collection Activity; USGS Societal Uses and Benefits of Moderate-Resolution Satellite Imagery Survey

AGENCY: United States Geological Survey (USGS), Interior.

ACTION: Notice of a new information collection.

SUMMARY: To comply with the Paperwork Reduction Act of 1995 (PRA), we are notifying the public that we have submitted to the Office of Management and Budget (OMB) a new information collection request (ICR) for approval of the paperwork requirements for the study on the Societal Uses and Benefits of Moderate-Resolution Satellite Imagery.

DATES: You must submit comments on or before June 8, 2009.

ADDRESSES: Please submit comments on this information collection directly to the Office of Management and Budget, Office of Information and Regulatory Affairs, Attention: Desk Officer for the Department of the Interior, via e-mail [OIRA_DOCKET@omb.eop.gov] or fax (202) 395-5806; and identify your submission as 1028—NEW. Please also submit a copy of your comments to Phadrea Ponds, USGS Information Collection Clearance Officer, 2150-C Center Avenue, Fort Collins, CO 80525 (mail); (970) 226-9230 (fax); or pponds@usgs.gov (e-mail). Please reference Information Collection 1028—NEW, LANDSAT in the subject line.

FOR FURTHER INFORMATION CONTACT: Earlene Swann by mail at U.S. Geological Survey, 2150-C Center Avenue, Fort Collins, CO 80525 or by telephone at (970) 226-9346.

SUPPLEMENTARY INFORMATION:

I. Abstract

The U.S. Geological Survey (USGS) is responsible for maintaining the national archive of Landsat data and distributing data to users. The Landsat Program benefits a wide community of users, including federal, state, and local governments, the global change research community, national security agencies, academia, and private sector users. The USGS Land Remote Sensing Program (LRS) initiated this information collection as part of a regulation mandate to lead efforts to develop a long-term plan to achieve technical, financial, and managerial stability for operational land imaging. To address this data need this information collection is designed to: (1) Better understand the uses and applications of moderate-resolution satellite imagery, (2) identify and classify the breadth and depth of the users of these imagery, and (3) determine the societal benefits of Landsat. This information collection will be conducted by scientists and staff in the Policy Analysis and Science Assistance Branch (PASA) of the USGS. The information collection will be conducted online and utilizes five forms.

II. Data

OMB Control Number: 1028—NEW.

Title: The Societal Uses and Benefits of Moderate-Resolution Satellite Imagery.

Respondent Obligation: Voluntary.

Frequency of Collection: One-time.

Estimated Annual Number of and Description of Respondents: 3983. State and Local Government, private individuals, state and local land management officials, scientists, and geographic researchers.

| Annual number of responses | Estimated completion time per respondent (min) | Estimated annual burden
Form 1 | 971 | 35 | 567
Form 2 | 971 | 25 | 404
Forms 3 and 4 | 1941 | 15 | 486
Form 5 | 100 | 3 | 5
Total | 3983 |  | 1462

Estimated Annual Reporting and Recordkeeping “Non-Hour Cost”: There are no “non-hour cost” burdens associated with this collection of information.

III. Request for Comments

On September 4, 2008, we published a Federal Register notice (73 FR 51645) announcing that we would submit this information collection to OMB for approval. The notice provided a 60-day comment period ending on November 4, 2008. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publicly available at anytime. While you can ask us in your comment to withhold your personal identifying information from public review, we cannot guarantee that we will be able to do so.

Dated: May 4, 2009.
Bruce K. Quirk,
Land Remote Sensing Program Coordinator.

[FR Doc. E9-10714 Filed 5-7-09; 8:45 am]

BILLING CODE 4311-AM-P